SMALL BUSINESS ADMINISTRATION

[Disaster Declaration #15138 and #15139; IDAHO Disaster Number ID-00067]

Presidential Declaration Amendment of a Major Disaster for Public Assistance Only for the State of IDAHO

AGENCY: U.S. Small Business Administration.

ACTION: Amendment 1.

SUMMARY: This is an amendment of the Presidential declaration of a major disaster for Public Assistance Only for the State of IDAHO (FEMA-4313-DR), dated 05/18/2017.

Incident: Severe Storms, Flooding, Landslides, and Mudslides.

Incident Period: 03/06/2017 through 03/28/2017.

DATES: Effective 06/22/2017.

Physical Loan Application Deadline Date: 07/17/2017.

Economic Injury (Eidl) Loan Application Deadline Date: 02/20/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for Private Non-Profit organizations in the State of IDAHO, dated 05/18/2017, is hereby amended to include the following areas as adversely affected by the disaster.

Primary Counties: Benewah

All other information in the original declaration remains unchanged.

(Catalog of Federal Domestic Assistance Number 59008)

James E. Rivera,
Associate Administrator for Disaster Assistance.

[FR Doc. 2017-13749 Filed 6-29-17; 8:45 am]

BILLING CODE 8025-01-P